DEPARTMENT OF LABOR

Office of the Secretary

Job Corps: Preliminary Finding of No Significant Impact (FONSI) for the Installation of a Small Wind Turbine at the Pine Ridge Job Corps Center Located at 15710 Highway 385, Chadron, NE 69337

AGENCY: Office of the Secretary, Department of Labor.

Recovery: This project will be wholly funded under the American Recovery and Reconstruction Act of 2009.

ACTION: Preliminary Finding of No Significant Impact (FONSI) for a small Wind Turbine Installation to be located at the Pine Ridge Job Corps Center, 15710 Highway 385, Chadron, NE 69337.

SUMMARY: Pursuant to the Council on Environmental Quality Regulations (40 CFR part 1500-08) implementing procedural provisions of the National Environmental Policy Act (NEPA), the Department of Labor, Office of the Secretary (OSEC) in accordance with 29 CFR 11.11(d), gives notice that an Environmental Assessment (EA) has been prepared for a proposed Wind Turbine Installation to be located at the Pine Ridge Job Corps Center, 15710 Highway 385, Chadron, NE 69337. Through the EA and consultation with the U.S. Fish and Wildlife and the Nebraska Game and Parks Commission, the proposed plan for the construction of a wind turbine at the Pine Ridge Job Corps Center will have no significant environmental impact. This Preliminary Finding of No Significant Impact (FONSI) will be made available for public review and comment for a period of 30 days.

DATES: Comments must be submitted by May 5, 2010.

ADDRESSES: Any comment(s) are to be submitted to William A Dakshaw, P.E., Division of Facilities and Asset Management, Department of Labor, 200 Constitution Avenue, NW., Room N-4460, Washington, DC 20210, (202) 693-2867 (this is not a toll-free number).

FOR FURTHER INFORMATION CONTACT: Copies of the EA are available to interested parties by contacting William A Dakshaw, P.E., Division of Facilities and Asset Management, Department of Labor, 200 Constitution Avenue, NW., Room N-4460, Washington, DC 20210, (202) 693-2867 (this is not a toll-free number).

SUPPLEMENTARY INFORMATION: This EA summary addresses the proposed construction of a single 100 kW rated or two 50 kW rated wind turbines at the Pine Ridge Job Corps Center.

The wind turbine will be installed on self-supporting towers approximately 120′ above the ground. The wind turbine will produce clean energy for the Pine Ridge Job Corps center, demonstrate renewable energy capabilities to Job Corps Students and help the program meet federal requirements in Executive Order 13423 for renewable energy production.

This project is not expected to have a negative impact on population demographics, the surrounding area, environmental quality, or natural systems and heritage. The U.S. Fish and Wildlife Service and the Nebraska Game and Parks Commission were consulted on this project. The Nebraska Game and Parks Commission determined the project will have no effect on state listed threatened or endangered species.

Based on the information gathered during the preparation of the EA and the consultation with the U.S. Fish and Wildlife and the Nebraska Game and Parks Commission, the construction of the Wind Turbine Installation at the Pine Ridge Job Corp Center, 15710 Highway 385, Chadron, NE 69337 will not create any significant adverse impacts on the environment.

Dated: March 31, 2010.
Edna Primrose,
Director of Job Corps.

[FR Doc. 2010-7657 Filed 4-2-10; 8:45 am]

BILLING CODE 4510-23-P